Proclamation 7629 of November 22, 2002

National Farm-City Week, 2002

By the President of the United States of America

A Proclamation

Agriculture has always been a cornerstone of our Nation's way of life. As wise stewards and innovative entrepreneurs, our dedicated farmers and ranchers improve our well-being by working to ensure a healthy and abundant agricultural supply. To succeed in this important enterprise, our farmers rely on essential partnerships with urban communities to supply, sell, and deliver finished products across the country and around the world. During National Farm-City Week, we recognize the importance of this cooperative network to the success of America's agricultural industry.

Farming was America's first industry. Today, this industry provides us with many of the necessities of life, such as food, clothing, and,increasingly, fuel for our energy needs. Agriculture employs more than 24 million workers including farmers, shippers, processors, marketers, grocers, truck drivers, inspectors, and others who annually contribute more than $1.3 trillion to our gross domestic product. In the international market, our farmers export more than $50 billion in products that help feed people in countries around the world. As we welcome new opportunities for trade, the hard work and successful cooperation between farmers and city workers will continue to play a vital role in our Nation's success and will continue to be a critical resource for countless people here at home and around the globe.

My Administration remains committed to helping the millions of Americans who work in the agricultural industry. Earlier this year, I signed the Farm Security and Rural Investment Act of 2002 to support these important workers and to strengthen the farm economy. This Act will help our farmers and ranchers by providing financial assistance that encourages sound conservation and environmental practices, and promotes open trade. And to expand opportunities for our farmers to compete in the inter national marketplace and encourage further economic growth, my Administration is committed to opening international markets and reducing tariffs and other barriers to food distribution throughout the world.

Farm-city collaborations help maintain and improve our Nation's food supply and contribute to a better quality of life for countless citizens. With this Farm-City Week observance, we commend the many Americans whose hard work and ingenuity reflect the true spirit of America and help ensure a prosperous future for all.

NOW, THEREFORE, I, GEORGE W. BUSH, President of the United States of America, by virtue of the authority vested in me by the Constitution and laws of the United States, do hereby proclaim November 22 through November 28, 2002, as National Farm-City Week. I call upon all Americans, in rural and urban communities, to join in recognizing the accomplishments of all those who work together to produce and promote America's agricultural abundance. I also encourage citizens to strengthen our understanding of the American farm-city partnership by participating in appropriate community events and celebrations.

IN WITNESS WHEREOF, I have hereunto set my hand this twenty-second day of November, in the year of our Lord two thousand two, and of the Independence of the United States of America the two hundred and twenty-seventh.

B

[FR Doc. 02-30203

Filed 11-25-02; 8:47 am]

Billing code 3195-01-P